DEPARTMENT OF ENERGY

Federal Energy Regulatory Commission

[Docket Nos. RD22-1-000 and IC22-7-000]

Commission Information Collection Activities (FERC-725K); Comment Request; Extension

AGENCY: Federal Energy Regulatory Commission.

ACTION: Notice of revisions to an information collection and request for comments.

SUMMARY: In compliance with the requirements of the Paperwork Reduction Act of 1995, the Federal Energy Regulatory Commission (Commission or FERC) is soliciting public comments on the requested renewal and revision of FERC-725K (Mandatory Reliability Standard for the SERC Region).

DATES: Comments on the collection of information are due May 3, 2022.

ADDRESSES: Send written comments on FERC-725K to the Commission. You may submit copies of your comments by one of the following methods:

Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only Addressed to: Federal Energy Regulatory Commission, Secretary of the Commission, 888 First Street NE, Washington, DC 20426.

○ Hand (including courier) delivery to: Federal Energy Regulatory Commission, 12225 Wilkins Avenue, Rockville, MD 20852.

Instructions: FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Please contact Ellen Brown who may be reached by email at DataClearance@FERC.gov, or telephone at (202) 502-8663.

SUPPLEMENTARY INFORMATION:

Title: FERC-725K, Mandatory Reliability Standard for the SERC Region.

OMB Control No.: 1902-0260.

Type of Request: Request for comment on the revised information collection requirements resulting from Docket No. RD22-1-000 ¹ and the three-year extension of FERC-725K.

¹ Delegated Letter Order approving Joint Petition requesting to update the regional Reliability Standard PRC-006-SERC-03 under RD22-1 (dated 12/14/2021) filed by the North American Electric Reliability Corporation (https://elibrary.ferc.gov/eLibrary/filelist?accession_num=20220218-3010).

Abstract: Section 215 of the Federal Power Act (FPA) ² requires a Commission-certified Electric Reliability Organization (ERO) to develop mandatory and enforceable Reliability Standards, which are subject to Commission review and approval. Once approved, the Reliability Standards may be enforced by NERC, subject to Commission oversight, or by the Commission independently.

² 16 U.S.C. 824o.

Reliability Standards that NERC proposes to the Commission may include Reliability Standards that are proposed by a Regional Entity to be effective in that region. In Order No. 672, the Commission noted that:

As a general matter, we will accept the following two types of regional differences, provided they are otherwise just, reasonable, not unduly discriminatory or preferential and in the public interest, as required under the statute: (1) A regional difference that is more stringent than the continent-wide Reliability Standard, including a regional difference that addresses matters that the continent-wide Reliability Standard does not; and (2) a regional Reliability Standard that is necessitated by a physical difference in the Bulk-Power System.

When NERC reviews a regional Reliability Standard that would be applicable on an interconnection-wide basis and that has been proposed by a Regional Entity organized on an interconnection-wide basis, NERC must rebuttably presume that the regional Reliability Standard is just, reasonable, not unduly discriminatory or preferential, and in the public interest.³ In turn, the Commission must give “due weight” to the technical expertise of NERC and of a Regional Entity organized on an interconnection-wide basis.⁴

³ 16 U.S.C. 824o(d)(3).

⁴ Id. § 824o(d)(2).

As stated in the NERC Petition, in 2008, SERC commenced work on Reliability Standard PRC-006-SERC-01. NERC also began work on revising PRC-006-0 at a continent-wide level. The SERC standard has been developed to be consistent with the NERC UFLS standard. PRC-006-SERC-02 was developed due to periodic review of the standard and PRC-006-1 clearly defines the roles and responsibilities of parties to whom the standard applies.

On February 18, 2022 FERC issued the Delegated Letter Order in Docket No. RD22-1-000 approving the NERC petition's request (Joint Petition of the North American Electric Reliability Corporation and SERC Reliability Corporation for Approval of Proposed Regional Reliability Standard PRC-006-SERC-03), which modifies the information collection of FERC-725K. The collection follows the NERC Petition request in Docket No. RD22-1-000 which proposes to update the reliability standard for the SERC region from PRC-006-SERC-02 to PRC-006-SERC-03. As stated in the NERC Petition submitted on December 14, 2021, the updated reliability standard provides additional flexibility for planning coordinators to adjust island boundaries to perform more accurate studies; address the transition of the Florida Reliability Coordinating Council (FRCC) registered entities to SERC following the dissolution of the FRCC on July 1, 2019; and to clarify technical requirements within the UFLS settings that are unique to the Florida peninsula. When FRCC was dissolved and the registered entities located in the Florida peninsula would eventually became subject to SERC's regional Reliability Standard PRC-006-SERC-02.

The PRC-006-1 standard identifies the Planning Coordinator (PC) as the entity responsible for developing underfrequency load shedding (UFLS) schemes within their PC area. The regional standard (PRC-006-SERC-03) adds specificity not contained in the NERC standard for a UFLS scheme in the SERC Region. The added specificity that PRC-006-SERC-03 provides effectively mitigates the consequences of an underfrequency event.

The purpose of regional Reliability Standard PRC-006-SERC-03 is to establish consistent and coordinated requirements for the design, implementation, and analysis of automatic UFLS programs among all SERC applicable entities. The regional Reliability Standard PRC-006-SERC-03 incorporates revisions to: (i) Provide more flexibility for Planning Coordinators to adjust island boundaries in order to perform more accurate and complete studies; (ii) address the transition of Florida Reliability Coordinating Council (“FRCC”) registered entities to SERC following the dissolution of FRCC as a regional entity on July 1, 2019; ⁵ (iii) clarify a technical term used in the regional Reliability Standard; and (iv) align requirement language with the current continent-wide NERC Reliability Standard, PRC-006-5.

⁵ Letter Order Approving the Joint Petition Requesting Certain Approvals in connection with the Dissolution of FRCC, 167 FERC ¶ 61,095, (2019).

Currently effective regional Reliability Standard PRC-006-SERC-02 was approved by the Commission on October 16, 2017 ⁶ and became effective for registered entities in the SERC region on January 1, 2018. Following the addition of FRCC's registered entities to SERC in 2019, SERC initiated a project to review PRC-006-SERC-02. SERC's Dynamics Working Group identified the need to revise the regional Reliability Standard to account for UFLS settings that are unique to the Florida peninsula. As part of this project, SERC also identified other opportunities to enhance the regional standard.

⁶ North American Electric Reliability Corporation (NERC), Docket No. RD17-9-000 (Oct. 16, 2017) (delegated letter order).

SERC proposed to modify its UFLS Standard, PRC-006-SERC-02. Requirements R1 and R7 of the currently effective standard are removed in the updated regional Reliability PRC-006-SERC-03, but the numbering for the remaining Requirements is unchanged in the interest of administrative convenience.⁷

⁷ NERC petition identified on page 8.

SERC proposed to remove Requirement R1, which says:

Each Planning Coordinator shall include its SERC subregion as an identified island in the criteria (required by the NERC PRC standard on UFLS) for selecting portions of the BPS that may form islands.⁸

⁸ NERC petition identified on page 9.

SERC proposed the retirement of Requirement R7, which sets specific data requirements for Planning Coordinators (PCs) to provide SERC. SERC no longer plans to maintain a database of this information; therefore, it proposed to retire R7, that removes the requirement for SERC to maintain a UFLS database. SERC notes that this requirement is no longer needed because the continent-wide UFLS standard requires PCs to maintain a UFLS database.

Type of Respondents: Entities registered with the North American Electric Reliability Corporation within the SERC region.

Estimate of Annual Burden: ⁹ Our estimate below regarding the number of respondents is based on the NERC compliance registry as of January 7, 2022. According to the NERC compliance registry, there are 28 planning coordinators (PC) and 175 generator owners (GO) within the SERC Region. The individual burden estimates are based on the time needed for planning coordinators and generator operators to meet the requirements of both the regional SERC requirement and the national reliability requirements. The estimates include the costs to document and store data, run studies, assess UFLS design, and analyze results from design, development, and updating of the UFLS programs to be compliant with the SERC and NERC standards. Additionally, generator owners must provide a detailed set of data and documentation to SERC within 30 days of a request to facilitate post event analysis of frequency disturbances. These burden estimates are consistent with estimates for similar tasks in other Commission-approved Reliability Standards.

⁹ “Burden” is defined as the total time, effort, or financial resources expended by persons to generate, maintain, retain, or disclose or provide information to or for a Federal agency. For further explanation of what is included in the information collection burden, reference 5 Code of Federal Regulations 1320.3.

There are two burden tables below, the first showing the reduction in burden following RD22-1-000, and the second showing the estimated burden of the collection. The Commission estimates the annual reporting burden and cost for the Reliability Standard PRC-006-SERC-3 as:

FERC-725K, Modifications Due to DLO in Docket No. RD22-1
[Reduction in burden]
Reliability standard and associated requirement | Number of respondents | Annual number of responses per respondent | Total number of responses | Average burden & cost per response | Total annual burden & total annual cost | Cost per respondent ($)
| (1) | (2) | (1) * (2) = (3) | (4) | (3) * (4) = (5) | (5) ÷ (1)
PRC-006-SERC-3
PCs: Provide Documentation and Data to SERC | 28 | 1 |  | 16 hrs.; $1,392 | 448 hrs.; $38,976 | $1,392
Total Reduction due to RD22-1 |  |  |  |  | 448 hrs.; $38,976

FERC-725K: Mandatory Reliability Standard for the SERC Region
[Renewal]
| Number of respondents ¹⁰ | Annual number of responses per respondent | Total number of responses | Average burden & cost per response ¹¹ | Total annual burden hours & total annual cost | Cost per respondent ($)
| (1) | (2) | (1) * (2) = (3) | (4) | (3) * (4) = (5) | (5) ÷ (1)
PCs: Design and Document Automatic UFLS Program | 28 | 1 | 28 | 8 hrs.; $696.00 | 224 hrs.; $19,488.00 | $696.00
GOs: Provide Documentation and Data to SERC | 175 | 1 | 175 | 16 hrs.; $1,392.00 | 2,800 hrs.; $243,600.00 | 1,392.00
GOs: Record Retention | 175 | 1 | 175 | 4 hrs.; $348.00 | 700 hrs.; $60,900 | 348.00
Total |  |  |  |  | 3,724 hrs.; $323,988

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

¹⁰ Between previous information collection there is an increase in the number of PCs and GOs which largely reflect entities from the former FRCC and SPP regions now applicable PRC-006-SERC-03.

¹¹ The estimated hourly cost (salary plus benefits) provided in this section is based on the salary figures and benefits of the average 2021 FERC FTE costs ($180,703 per year, or $87.00 per hour), which we estimate is comparable for salary plus benefits costs of a utilities staff.

Dated: February 24, 2022.
Kimberly D. Bose,
Secretary.

[FR Doc. 2022-04554 Filed 3-3-22; 8:45 am]

BILLING CODE 6717-01-P